DEPARTMENT OF COMMERCE

National Oceanic and Atmospheric Administration

50 CFR Part 223

[I.D. 022405B]

RIN 0648-AS92

Sea Turtle Conservation; Public Hearing Notification

AGENCY: National Marine Fisheries Service (NMFS), National Oceanic and Atmospheric Administration (NOAA), Commerce.

ACTION: Notice of public hearing.

SUMMARY: The National Marine Fisheries Service (NMFS) is announcing its intent to hold public hearings in Massachusetts and New Jersey to inform interested parties of the proposed gear modification for the mid-Atlantic sea scallop dredge fishery and to accept public comments on this action.

DATES: NMFS will hold a public hearing in Fairhaven, MA on Thursday, June 16, 2005, from 7 p.m. to 9 p.m., eastern daylight time and in Cape May, NJ on Wednesday, June 22, 2005, from 7 p.m to 9 p.m., eastern daylight time.

ADDRESSES: The meeting locations are:

Hampton Inn New Bedford, 1 Hampton Way, Fairhaven, MA 02719 (ph. 508-990-8500).

Cape May City Hall, 643 Washington St., Cape May, NJ 08204 (ph. 609-884-9525).

Written comments on the proposed rule, identified by RIN 0648-AS92, may be submitted by any one of the following methods: NMFS/Northeast Region Website: http://www.nero.noaa.gov/nero/regs/com.html Follow the instructions on the website for submitting comments.

Federal eRulemaking Portal: http://www.regulations.gov. Follow the instruction on the website for submitting comments.

E-mail: scallopchainmat@noaa.gov Please include the RIN 0648-AS92 in the subject line of the message.

Mail: Mary A. Colligan, Assistant Regional Administrator for Protected Resources, NMFS, Northeast Region, One Blackburn Drive, Gloucester, MA 01930, ATTN: Sea Turtle Conservation Measures, Proposed Rule

Facsimile (fax): 978-281-9394, ATTN: Sea Turtle Conservation Measures, Proposed Rule

FOR FURTHER INFORMATION CONTACT: Ellen Keane (ph. 978-281-9300 x6526), NMFS, One Blackburn Drive, Gloucester, MA 01930.

SUPPLEMENTARY INFORMATION: A proposed rule was issued on May 27, 2005 (70 FR 30660), which would require all vessels with a Federal Atlantic sea scallop fishery permit and a sea scallop dredge, regardless of dredge size or vessel permit category, to modify their dredge(s) when fishing south of 41° 9.0′ N. latitude, from the shoreline to the outer boundary of the Exclusive Economic Zone from May 1 through November 30 each year. Additional information on the justification for this action can be found in the proposed rule.

Copies of the Draft Environmental Assessment/Regulatory Impact Review and documents cited in the proposed rule can be obtained from http://www.nero.noaa.gov/nero/regs/com.html listed under the ADDRESSES portion of this document or by writing to Ellen Keane, NMFS, Northeast Region, One Blackburn Drive, Gloucester, MA 01930 The public comment period closes at 5 p.m. EST on June 27, 2005.

In determining how to proceed with this proposed action, NMFS will consider the public comments received (either in writing or verbally during the public hearing) during the 30-day comment period.

Special Accommodations

These meetings are accessible to people with disabilities. Requests for sign language interpretation or other auxiliary aids should be directed to Ellen Keane, telephone 978-281-9328 x6526, fax 978-281-9394, at least 5 days before the scheduled meeting date.

Authority: 16 U.S.C. 1531 et seq.

Dated: June 3, 2005.
P. Michael Payne,
Acting Deputy Director, Office of Protected Resources, National Marine Fisheries Service.

[FR Doc. 05-11393 Filed 6-7-05; 8:45 am]

BILLING CODE 3510-22-S